DEPARTMENT OF DEFENSE

Department of the Army; Corps of Engineers

Availability of Exclusive or Partially Exclusive Licenses

AGENCY: Department of the Army, U.S. Corps of Engineers, DoD.

ACTION: Notice.

SUMMARY: The Department of the Army, U.S. Army Corps of Engineers, announces the general availability of exclusive, or partially exclusive licenses under the following pending patents listed under SUPPLEMENTARY INFORMATION. Any license granted shall comply with 35 U.S.C. 209 and 37 CFR part 404.

ADDRESSES: Humphreys Engineer Center Support Activity, Office of Counsel, 7701 Telegraph Road, Alexandria, VA 22315-3860.

DATES: Applications for an exclusive or partially exclusive license may be submitted at any time from the date of this notice. However, no exclusive or partially exclusive license shall be granted until December 26, 2003.

FOR FURTHER INFORMATION CONTACT: Patricia L. Howland (703) 428-6672.

SUPPLEMENTARY INFORMATION:

1. Title: Scour Sensor Assembly. An optical scour sensor monitors scour, including deposition and ablation, in bodies of water that may be too lossy to enable use of electrical signals. A specially configured optical fiber is inserted into the sediment and the interface between the sediment and water thereby monitored using a top-mounted control box to pulse light down the cable and capture reflected signals. The optical fiber may be armored by a soft plastic concentric shield and incorporate a micro-bend inducer for detecting minute indentations in the fiber. The presence of a non-liquid, e.g., sediment, against the cable is detected because the sediment impinges on the fiber causing an indentation therein. At each indentation a reflection is sent back to the source. Using principles of optical time domain reflectometry (OTDR), the location of the indentation is determined. The data are fed to a remote system for processing, analysis and display.

Serial No.: 09/878,997.

Date: 6/13/2001.

2. Title: Pattern Detection Using the Bragg Effect at RF Frequencies. A system, and method of its use, provides for detecting patterns that exist within a geographic area due to the presence of an orderly array of objects. In a preferred embodiment, the system uses an irregular array of transceivers to illuminate an area suspected of containing a minefield. Typically, these minefields are arranged in an orderly arrangement. Exploiting the Bragg Effect, the transceivers, each configured as a surface wave radar, illuminate an area with RF energy that is scanned in carrier frequency within the HF band (3-30 MHz) at a pre-specified interval. At the frequency that corresponds to the Bragg Effect, a significantly increased signal level occurs that indicates the presence of a pattern such as one might expect from reflections from numerous objects arranged orderly. By processing these returns judiciously, the minefield's size, location, perimeter, and even the location of individual mines may be determined.

Serial No.: 60/245,2000.

Date: 11/3/2000.

3. Title: Detector and System for Indicating Pressure Change and Methods of Use. An electronic detector configuration enables the accurate determination of pressure differences in scenarios in which conventional detectors and detector systems introduce inherent thermal inequalities at the interface with their immediate environs. A preferred embodiment of the present invention accurately measures snow water equivalent (SWE) while eliminating the need for fluid-filled pillows that contain environmentally hazardous fluids. By matching the thermal conductivity of surrounding soil to a detector configuration having an inherently low specific heat, it minimizes effects of differences in thermal conductivity at the snow/soil interface that cause SWE pressure sensor measurement errors. Further, it minimizes thermal effects by keeping soil moisture under the configuration approximately the same as that of surrounding soil. The system is environmentally friendly, has a small footprint, and is inexpensive to implement in arrays coupled to communicators suitable for any number of monitoring and warning functions such as snow avalanche and landslide early warning.

Serial No.: 10/211,582.

Date: 8/5/2002.

4. Title: Autonomous System and Method for Efficiently Collecting Fugitive Airborne Emissions From Open Vessels. An autonomous pushed liquid recirculation system (APLRS) is installed in a vessel, such as an electroplating tank. It situates around the interior perimeter and adjusts to changes in the level of liquid, maintaining the same location and orientation respective to the liquid's surface. It establishes a current near the surface that pushes liquid across the narrow horizontal dimension of the tank from a front wall to a rear wall. The current serves to push any bubbles resultant from operations within the tank to the rear wall. Over the rear wall is mounted an abbreviated exhaust hood covering only a short width of the surface of the tank along the rear wall. Because the exhaust system has to scavenge only a portion of the surface since all bubbles now burst along the rear wall, a much smaller air handling apparatus may be specified with an attendant savings in energy costs.

Serial No.: 10/224,232.

Date: 8/20/2002.

5. Title: Device and Method for Simulating Natural Cues so That Waterborne Fauna Avoid Manmade Barriers. The method of adding natural hydrodynamic cues to fish diversion screens similar to cues produced by the flow of water over rough, stream beds is described. Fish detect the cues and avoid contacting or impinging on the screen surface in the same way that they avoid collision with natural features of stream channels. One design features that uses the method of adding natural cues is described. The feature consists of a series of rectangular plates that are attached to the u-clips beneath diversion screens that provide structural support to the individual bars that comprise the screen. The plates are oriented so that they are approximately perpendicular to the flow lines approaching the screen surface. The flow contacts the plates and, because the orientation of the plate creates an unstable hydraulic field, the flow alternately slips above and below the plates. This hydrodynamic oscillation extends above the screen surface and creates fluctuating local acceleration zones. These small-scale flow instabilities can be detected by fish prior to their contact with the screen surface and will cause the fish to navigate away from the screen surface without contacting the screen. Fish are guided by the signals generated by the screen reducing the danger of injury or death by collision with the screen surface or supporting structure.

Serial No.: 10/226,555.

Date: 8/20/2002.

6. Title: Bullet Trapping Medium and System. A backstop for decelerating and trapping projectiles generally includes a support structure having an inclined surface and a projectile trapping medium disposed on the inclined surface. The projectile trapping medium may be either a resilient granular ballistic medium or a combination of a ballistic medium with a hydrated super absorbent polymer (SAP) gel. Preferably, the support structure is made of a shock absorbing, foamed, fiber-reinforced concrete, such as SACON. In embodiments, the support structure also includes an enclosure. Additives may also be mixed into the projectile trapping medium to control alkalinity and prevent leaching of heavy metals.

Serial No.: 10/307,427.

Date: 12/2/2002.

7. Title: Methods and Devices for Optically Recording and Imaging Representations of Interactions of an Object With its Environment. Using an array of optical sensors affixed to measure interactions on a surface of an object, in combination with a specially configured personal computer, dynamic mapping of interaction is provided. One application maps washover of an object towed in a large body of water. Data are collected on optical characteristics of the interaction such as reflectivity at a boundary. For example, in one embodiment the reflectivity at an optical fiber/seawater boundary is compared to that of an optical fiber/air boundary and dynamic measurements made using an optical time domain reflectometer (OillR). These data are then processed using specialized software to yield representation of the dynamics (spatial and temporal) of selected washover events on a surface of interest. The system specifically provides a real-time representation of washover, including two and three-dimensional visualization of washover, as well as recording selected data for future use. Methods of employment of the system are also provided.

Serial No.: 10/318,129.

Date: 12/13/2002.

8. Title: Systems, and Methods of Use, Employing Distorted Patterns to ascertain the Shape of a Surface, for Road or Runway Profiling, or as Input to Control Pro-active Suspension Systems. Provided in a preferred embodiment is an application of phase or “shadow” profilometry to determine a 3-D profile of structure instantaneously. In one application, a vehicle-mounted system captures a 3-D profile while operating normally. The system may use a digital camera, a computer for processing and storage, a broadband light source, and a device positioned between the light and structure that enables strips of light to impinge on the structure. A preferred embodiment uses a single straight edge as the device, casting a straight line shadow. In addition to profiling road surfaces, the bottom of hydraulic models have been profiled even while being disturbed with a wave generator. It may be integrated with other devices such as a pro-active suspension system for civilian, military, and construction vehicles. Further, use with tiltmeters and GPS receivers provides data useful for engineering or construction management.

Serial No.: 10/318,214.

Date: 12/13/2002.

9. Title: Method and Instrument for Electronically Recording, and Imaging Representations of Interactions of an Object With its Environment. Using an array of electrically isolated electrode pairs in combination with a specially configured processor, e.g., a personal computer, continuous real-time acquisition, processing, mapping and visualization of an object's interaction with its environment are provided. In a specific application, washover data are collected on salient electrical characteristics of seawater accumulating between electrodes of an electrode pair, one of which may be a common ground plane. For example, in one embodiment, the resistance of seawater is measured dynamically at each electrode pair. These data are then processed using specialized software to yield representation of the dynamics of selected washover events on a surface of interest. Described systems specifically provide real-time spatial and temporal representations of interaction, including two and three-dimensional visualization of the interaction, e.g., washover, as well as recording selected data for future use. Methods of employment of the systems are also provided.

Serial No.: 10/318,297.

Date: 12/13/2002.

10. Title: Self-Healing Coating and Microcapsules to Make Same. A liquid self-healing coating, incorporating microcapsules filled with tailored repair formulations, repairs itself upon physical compromise after curing. In one embodiment, a commercially available paint primer is mixed with a pre-specified amount of these microcapsules. After the coating has cured on the substrate to which it is applied, any physical compromise of the cured coating results in the microcapsules bursting to release a liquid that fills and seals the compromised volume of the coating. In applications where paint is used to provide corrosion protection, the liquid contains anti-corrosion material as well as suitable diluents and film-forming compounds. In another embodiment, the microcapsules may be provided separately to enhance commercially available products. For example, if a paint formulation is known a priori, specifically configured microcapsules packaged separately from the paint and designed for use with the paint formulation, may be added to the commercially available product just prior to application.

Serial No.: 10/377,642.

Date: 3/4/2003.

11. Title: Fusion of Data From Differing Mathematical Models. A procedure automatically resolves vertical differences commonly found when merging and combining Digital Elevation Models (DEMs) from different collection and production systems. These systems may employ technologies used in single pass Interferometric Synthetic Aperture Radar (IFSAR), Light Detection And Ranging (LIDAR), and photogrammetry, as well as DEMs derived from contour based elevation data and GPS point data. This procedure employs sophisticated software checking routines for automatically identifying horizontal and vertical datums used by the differing systems as well as any geoid models employed by them. Normally, all of these sources use different vertical datums and may use different horizontal datums. A preferred embodiment of the present invention automatically recognizes the vertical datums, including those that are associated with the geoid models and the 3-D datums that conventional GIS does not support at present.

Serial No.: 10/395,168.

Date: 3/25/2003.

12. Title: Detecting, Classifying, and Localizing Minor Amounts of an Element Within a Sample of Material. Minute amounts of material, such as a contaminant, are detected, identified and located using a single procedure that eliminates the need for using complex and sometimes redundant instrumentation setups, multiple (and sometimes overlapping) analytic processes, or both. In a preferred embodiment, a series of processing steps enables one to detect, identify, and localize minute amounts of particular elements, e.g., contaminants, in material being tested. Data sets, suitable for characterizing components of samples at least spectrally and spatially, are collected from at least one uncontaminated sample of material (the “baseline” or “control”) and a sample of material under test (MUT) that may contain contaminants. Comparison of these data sets, using the procedures of the present invention, enables ready identification of minute amounts of material in any sample. The use of existing conventional procedures may require that multiple sets of data be taken or multiple processes be applied.

Serial No.: 10/406,159.

Date: 4/3/2003.

13. Title: Improved Method and System for Dewatering Particulate Materials. A system and method for dewatering particulate materials employs an improved dewatering probe generally including a single non-conducting pipe having a plurality of holes or slots, an anode mounted on the pipe adjacent one end of the pipe, and a cathode mounted on the pipe adjacent the opposite end of the pipe. The pipe serves as both a sonde for mounting the anode and cathode and as a well for extracting water that collects around the outside of the pipe and flows into the interior of the pipe through the holes or slots via gravitational and electro-osmotic forces. A pump may be used to extract both collected water and accumulated electrolytic gases from the pipe's interior. In embodiments, an array of guide electrodes is mounted on the pipe in addition to the anode and the cathode in order to deflect the major current flow out into the body of surrounding particulate materials. The guide electrodes also facilitate rapid depolarization of the probe. An array of probes according to the present invention may be employed as a system to dewater a volume of particulate.

Serial No.: 10/421,922.

Date: 4/24/2003.

14. Title: Devices and Methods for Reducing or Eliminating the Gap Between a Stay Vane and its Corresponding Wicket Gate as Used in Turbines. An improved design for turbines increases efficiency while reducing potential for fish kill. In a preferred embodiment as relates to a Kaplan turbine, the gap between stay vanes and their corresponding wicket gates is reduced or eliminated by provision of an extension to the trailing edge of the stay vane. In alternative embodiments, the extension may be added to the wicket gate or affixed to both in an arrangement that permits free movement of the wicket gate. To facilitate eliminating the gap altogether, the extension may be made of a pliable material or be fabricated in a telescoping or accordion arrangement to permit contact with opposing parts without damage thereto. By designing extensions using accepted hydraulic principles, a better fit of the stay vane to its associated wicket gate, and possibly to the turbines runners may be effected, further improving operational efficiency and possibly even extending maintenance intervals.

Serial No.: 60/442,551.

Date: 1/27/2003.

Luz D. Ortiz,
Army Federal Register Liaison Officer.

[FR Doc. 03-24255 Filed 9-25-03; 8:45 am]

BILLING CODE 3710-92-P